NATIONAL AERONAUTICS AND SPACE ADMINISTRATION

[Notice (01-118)]

NASA Advisory Council; Meeting

AGENCY: National Aeronautics and Space Administration.

ACTION: Notice of meeting.

SUMMARY: In accordance with the Federal Advisory Committee Act, Pub. L. 92-463, as amended, the National Aeronautics and Space Administration announces a meeting of the NASA Advisory Council.

DATES: Tuesday, October 16, 2001, 8:30 a.m. to 5:00 p.m.; and Wednesday, October 17, 2001, 8:30 a.m. to 2:00 p.m.

ADDRESSES: National Aeronautics and Space Administration, Room 9H40, 300 E Street, SW, Washington, DC 20546.

FOR FURTHER INFORMATION CONTACT: Ms. Kathy Dakon, Code IC, National Aeronautics and Space Administration, Washington, DC 20546, 202/358-0732.

SUPPLEMENTARY INFORMATION: The meeting will be closed to the public in accordance with 5 U.S.C. 552b(c)9(B), to hear briefings on NASA's Strategic Resource Review. The agenda for the meeting is as follows:

—Agency Strategic Resource Review Plans

It is imperative that the meeting be held on these dates to accommodate the scheduling priorities of the key participants.

Beth M. McCormick,
Advisory Committee Management Officer, National Aeronautics and Space Administration.

[FR Doc. 01-25321 Filed 10-9-01; 8:45 am]

BILLING CODE 7510-01-P